DEPARTMENT OF THE INTERIOR

Information Collection Submitted to the Office of Management and Budget for Review Under the Paperwork Reduction Act

AGENCY: Bureau of Indian Affairs, Interior.

ACTION: Notice.

SUMMARY: This notice announces that the Bureau of Indian Affairs (BIA) has submitted for renewal the information collection for the Housing Assistance Application (1076-0084) to the Office of Management and Budget (OMB) for approval under the Paperwork Reduction Act. This program and the process of obtaining benefits are codified at 25 CFR Part 256. On May 10, 2001, the BIA published a notice in the Federal Register requesting comments on the proposed information collection. The comment period ended on July 10, 2001. The BIA received no comments from the public in response to the notice.

DATES: Submit comments on or before October 25, 2001.

ADDRESSES: Your comments and suggestions on the requirements should be made directly to the Office of Information and Regulatory Affairs, Attn: Desk Officer for Department of the Interior, Office of Management and Budget; 725 17th Street, NW, Washington, D.C. 20503. Please provide a copy of your comments to June Henkel, Bureau of Indian Affairs, Department of the Interior, 1849 C Street, MS-4660-MIB, Washington, D.C., 20240. Telephone: (202) 208-3667.

FOR FURTHER INFORMATION CONTACT: Copies of the renewal of collection of information and related self-explanatory form may be obtained by contacting June Henkel, Bureau of Indian Affairs, Department of the Interior, 1849 C Street, NW, MS-4660-MIB, Washington, D.C. 20240. E-mail: JuneHenkel@bia.gov. Fax: (202) 208-2648. Telephone: (202) 208-3667. (This is not a toll-free number).

SUPPLEMENTARY INFORMATION:

I. Abstract

The information is needed to establish whether an applicant is eligible to receive services under the HIP and to establish the priority order in which eligible applicants may receive services under the program. An agency may not conduct or sponsor, and a person is not required to respond to a collection of information unless it displays a currently valid OMB control number. The Federal Register notice with a 60-day comment period soliciting comments on this collection of information was published on May 10, 2001 (66 FR 23948). OMB is required to respond to this request between 30-60 days after publication of this notice in the Federal Register. For maximum consideration, your comments should be submitted to OMB within 30 days of publication.

II. Request for Comments

We specifically request your comments on the following:

1. Whether the collection of information is necessary for the proper performance of the functions of the BIA, including whether the information will have practical utility;

2. The accuracy of the BIA's estimate of the burden of the information collection, including the validity of the methodology and assumptions used;

3. The quality, utility and clarity of the information to be collected; and,

4. How to minimize the burden of the information collection on those who are to respond, including the use of appropriate automated electronic, mechanical or other forms of information technology.

III. Data

Title of the Collection of Information: Department of the Interior, Bureau of Indian Affairs, Housing Assistance Application.

OMB Number: 1076-0084.

Affected Entities: Individual members of Indian tribes who are living on or near a tribal service area, as defined by law or defined by the tribe and approved by the BIA.

Frequency of Response: Annually or less frequently, depending on length of waiting list, funding availability and dynamics of service population.

Estimated Number of Annual Responses: 3,500.

Estimated Time per Application: ½ hour.

Estimated Total Annual Burden Hours: 1,750 hours.

Dated: August 3, 2001.
Neal A. McCaleb,
Assistant Secretary—Indian Affairs.

[FR Doc. 01-23877 Filed 9-24-01; 8:45 am]

BILLING CODE 4310-02-P